DEPARTMENT OF HEALTH AND HUMAN SERVICES

Administration for Community Living

[OMB #0985-0040]

Agency Information Collection Activities; Submission for OMB Review; Public Comment Request; State Health Insurance Assistance Program (SHIP) Data Performance Reports and Information Collection Tools

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the modification and use of the Data Performance Reports and Information Collection tools for the State Health Insurance Assistance Program (SHIP) under OMB 0985-0040 that expires September 30, 2020

DATES: Submit written comments on the collection of information by 11:59 p.m. (EST) or postmarked by October 28, 2020.

ADDRESSES: Submit written comments on the collection of information by:

(a) Email to: OIRA_submission@omb.eop.gov, Attn: OMB Desk Officer for ACL;

(b) fax to: 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Rebecca Kinney, Office of Healthcare Information and Counseling (OHIC), Administration for Community Living, Washington, DC 20201, Phone: 202-795-7397 Email: Rebecca.Kinney@acl.hhs.gov.

SUPPLEMENTARY INFORMATION: In compliance with 44 U.S.C. 3507, ACL has submitted the following proposed collection of information to OMB for review and clearance.

The purpose of this data collection is to collect performance data from grantees, grantee team members, and partners. Congress requires this data collection for program monitoring and Government Performance Results Act (GPRA) purposes. This data collection allows the Administration for Community Living (ACL) and the Center for Innovation and Partnership (CIP) to communicate with Congress and the public on the State Health Insurance Assistance Program (SHIP), the Senior Medicare Patrol (SMP) program, the Medicare Improvements for Patients & Providers Act (MIPPA) program, and Aging and Disability Resource Centers (ADRC) activities. In addition to the SHIP Data Performance Reports and Information Collection (OMB #0985-0040), this revision incorporates the expired SMP Report collection (OMB #0985-0024) and the ADRC collection (OMB #0985-0062) into one tool.

The SHIP, SMP, MIPPA, and ADRC programs are located in each of the 50 states, the District of Columbia, Puerto Rico, Guam and the U.S. Virgin Islands. In order to ensure that grantees report activity accurately and consistently it is imperative that these data collection tools remain active.

The respondents for this data collection are grantees, grantee team members, and partners who meet with Medicare beneficiaries and older adults in-group settings and in one-on-one sessions to educate them on Medicare enrollment, Medicare benefits and subsidy programs, the importance of being aware of Medicare fraud, errors and abuse, and having the knowledge to protect the Medicare system.

ACL is proposing to combine these three collection tools to reduce burden on the grantees, grantee team members, and partners as many of the individuals working on these programs, collecting information, and reporting results are the same at the local level. Combining these tools will reduce the need for duplicate or triplicate reporting of activities in separate tools further reducing the time and effort in reporting outcomes and activities. In addition, this combination will allow clarification on when, where, and how services are being delivered across these ACL programs further informing performance outcomes.

SHIP and MIPPA Data Collection (OMB #0985-0040)

Section 4360(f) of OBRA 1990 created the State Health Insurance Assistance Program (SHIP) and requires the Secretary to provide a series of reports to the U.S. Congress on the performance of the SHIP program annually. The law also requires ACL to report on the program's impact on beneficiaries and to obtain important feedback from beneficiaries.

This tool captures the information and data necessary for ACL to meet these Congressional requirements, as well as, grantee performance data providing ACL essential insight for monitoring and technical assistance purposes.

In addition, the Medicare Improvements for Patients and Providers Act (MIPPA), initially passed in 2008, provided targeted funding for the SHIPs, Area Agencies on Aging (AAAs), and Aging and Disability Resource Centers (ADRC) to conduct enrollment assistance to Medicare beneficiaries for the Low Income Subsidy (LIS) and Medicare Savings Program (MSP). This tool also collects performance and outcome data on the MIPPA Program providing ACL necessary information for monitoring and oversight.

SMP Data Collection (OMB #0985-0024)

Under Public Law 104-208, the Omnibus Consolidated Appropriations Act of 1997, Congress established the Senior Medicare Patrol Projects in order to further curb losses to the Medicare program. The Senate Committee noted that retired professionals, with appropriate training, could serve as educators and resources to assist Medicare beneficiaries and others to detect and report errors, fraud and abuse.

Among other requirements, it directed the ACL to work with the Office of Inspector General (OIG) and the Government Accountability Office (GAO), to assess the performance of the program. The ACL employs this tool to collect performance and outcome data on the SMP Program necessary information for monitoring and oversight. ACL has shared this data and worked with HHS/OIG to develop SMP performance measures.

The HHS/OIG has collected SMP performance data and issued SMP performance reports since 1997. The information from the current collection is reported by the OIG to Congress and the public. This information is also used by ACL as the primary method for monitoring the SMP Projects.

ADRC Data Collection (OMB #0985-0062)

The Aging and Disability Resource Center (ADRC) collects data for the No Wrong Door (NWD) System initiative. This tool seeks to connect fragmentation in the network, ease administrative reporting burden, and further support the need for early community-based interventions.

ACL uses this tool to collect performance and outcome data necessary for monitoring and oversight. Additionally, this collection supports states in better coordinating and integrating their existing long-term services and supports (LTSS) access functions to develop a new interface that would make it easier for people to learn about and quickly access options that meet their needs. These programs operate throughout the United States and represent a nationally recognized network.

Comments in Response to the 60-Day Federal Register Notice

ACL published both a 60-day and 30-day Federal Register Notice in the Federal Register soliciting public comments on this revision request. The 60-day FRN published on December 30, 2019, Volume 84, Number 249, pages 71954-71956; ACL received seventeen comments in response to the request for comments for the Proposed Collection of data through the OHIC Data System. ACL reviewed all of the comments. Most of the comments were proposed additions to the topics discussed on the various forms. ACL discussed the comments and included additions where it was deemed necessary.

Beneficiary Contact Form Comments & Responses
Topic/issue | Public comment | ACL response
Beneficiary Demographics | Please add veteran status to track possible eligibility for benefits | ACL added a new question to the Beneficiary Contact Form to capture veteran status.
Topics Discussed/Original Medicare | Please add Accountable Care Organizations | ACL added “Accountable Care Organizations (ACOs)”.
| Add Part B conditional enrollment | ACL added “Conditional Enrollment”.
| Include something to track equitable relief | ACL added “Equitable Relief”.
| Please include late enrollment penalties | ACL added “Late Enrollment Penalty” to the Original Medicare Topics Discussed field and the Medicare Part D Topics Discussed field.
| Please include something to track issues with provider participation to the form | ACL added “Provider Participation” to the Original Medicare Topics Discussed field, “Provider Network” to the Medicare Advantage Topics Discussed, “Pharmacy Network” to Medicare Part D Topics Discussed, and “Provider Participation” to the Medicaid Topics Discussed field.
Topics Discussed/Medigap | Include application assistance for Medigap plans | ACL added “Application Assistance”.
| Please include a way to track Medigap complaints and guaranteed issue right issues | ACL added “Complaints” and “Guaranteed Issue Rights”.
Topics Discussed/Medicare Advantage (MA and MA-PD) | Add Special Needs Plans to the form | ACL added “Chronic Condition Special Needs Plans”, “Dual Eligible Special Needs Plans”, and “Institutional Special Needs Plans”.
| Include the new benefits for MA plans | ACL added “Supplemental Benefits (please explain)”.
| Include Integrated Care on the Beneficiary Contact Form | ACL did not include this item because it is included in more detailed Topics Discussed captured throughout the form.
Topics Discussed/Other Prescription Assistance | Add a way to track prescription discount cards | ACL added “Prescription Discount Cards”.
Topics Discussed/Medicaid | Add MSP Application Submission | ACL deleted “Application Submission” from the Medicaid Topics Discussed field and added “Medicaid Application Submission”, “MSP Application Submission”, and “Medicaid Spend Down” to differentiate between the actions.
| Add Appeals to the Medicaid section | ACL added “Appeals/Grievances” and “QMB Improper Billing”.
| Please include a way to track issues with Medicaid Expansion and Marketplace transitions to Medicare | ACL added “Medicaid Expansion (ACA) Transitions to Medicare” to the Medicaid Topics Discussed field and “Marketplace Transition to Medicare” to the Other Insurance Topics Discussed field.
| Include a way to track MSP recertification | ACL added “Medicaid Recertification” and “MSP Recertification”.
| Add PACE | ACL added “Program of All-Inclusive Care for the Elderly (PACE)”.
Topics Discussed/Additional Topic Details | Please add an easy way to track COVID-19 issues | ACL added “COVID-19”.
| Add a way to track issues with common benefits such as transportation and home health care | ACL added “ESRD”, “Mail Order Prescription”, “Mental Health”, “Opioids”, “Physical Therapy”, “Telehealth”, and “Transportation”.
| Add HSAs | ACL added “Health Savings Accounts”.
| Add a way to track IRMA questions | ACL added “Income Related Monthly Adjustment Amount”.
| Please find a way to track assistance with setting up and assisting with MyMedicare accounts | ACL added “MyMedicare.gov Account”.
| Add Behavioral Health as a topic | ACL did not add this as it is encompassed by “Mental Health”.
| Add Pooled Trusts | ACL did not add as it is not within the SHIP scope of work.
| Add the following benefits: SNAP, LIHEAP, SSI, SSDI, Tax Benefits, Veterans Benefits, Housing, Subsidies, Lifeline, Public Assistance, Unemployment Assistance, Subsidized Transit Benefits, Other food Benefits, Other home benefits | ACL did not add these benefits as it is not within the SHIP scope of work.

The proposed data collection tools may be found on the ACL website for review at https://www.acl.gov/about-acl/public-input.

Estimated Program Burden: ACL estimates the burden associated with this collection of information as follows: The burden hours are based on the number of projects for ACL grantees.

Grantee respondent type | Form/report name | Number of respondents | Number of responses per respondent | Average burden per response (in minutes) | Total burden hours
SMP | Media Outreach & Education | 216 | 46 | 2 | 662.4
SMP | Group Outreach & Education | 6,935 | 4 | 4 | 1,849.33
SMP | Individual Interaction | 6,935 | 41 | 5 | 23,694.58
SMP | Team Member | 216 | 31 | 5 | 558
SMP | SMP Team Member Activity | 216 | 31 | 5 | 558
SMP | SMP Interaction | 6,935 | 2 | 5 | 1,155.83
SMP | SMP Subject | 3,500 | 5 | 5 | 1,458.33
SMP | OIG Report | 0 | 0 | 0 | 0
SMP | Time Spent Report | 0 | 0 | 0 | 0
SHIP/MIPPA | Media Outreach & Education | 3,750 | 15 | 15 | 14,062.50
SHIP/MIPPA | Group Outreach & Education | 3,750 | 15 | 4 | 3,750
SHIP/MIPPA | SHIP Team Member | 216 | 75 | 5 | 1,350
SHIP/MIPPA | Beneficiary Contact | 15,000 | 233 | 5 | 291,250
SHIP/MIPPA | Training | 216 | 75 | 15 | 4,050
SHIP/MIPPA | SHIP Performance Report | 0 | 0 | 0 | 0
SHIP/MIPPA | Resource Report | 0 | 0 | 0 | 0
SHIP/MIPPA | MIPPA Performance Report | 0 | 0 | 0 | 0
SHIP/MIPPA | SHIP Team Member Activity | 216 | 40 | 7 | 1,008
SHIP/MIPPA | SHIP Training | 216 | 5 | 4 | 72
SHIP/SMP/MIPPA | Summary Reports | 0 | 0 | 0 | 0
SHIP/MIPPA | Part D Enrollment Outcomes Report | 0 | 0 | 0 | 0
Totals |  | 48,317 | 618 |  | 335,166.47

Dated: September 17, 2020.
Mary Lazare,
Principal Deputy Administrator.

[FR Doc. 2020-21293 Filed 9-25-20; 8:45 am]

BILLING CODE 4154-01-P